DEPARTMENT OF HEALTH AND HUMAN SERVICES

Centers for Disease Control and Prevention

[60Day-24-1322; Docket No. CDC-2024-0007]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other Federal agencies the opportunity to comment on a continuing information collection, as required by the Paperwork Reduction Act of 1995. This notice invites comment on a proposed information collection project titled Capacity Building Assistance Program: Data Management, Monitoring, and Evaluation. The goal of the study is to allow CDC to evaluate the CDC cooperative agreement program entitled CDC-RFA-PS19-1904 in order to improve the evaluation design and methods used to capture PS19-1904 outcomes, and to increase access and use of PS19-1904 data for continuous quality improvement and performance reporting.

DATES: CDC must receive written comments on or before April 5, 2024.

ADDRESSES: You may submit comments, identified by Docket No. CDC-2024-0007 by either of the following methods:

• Federal eRulemaking Portal: www.regulations.gov. Follow the instructions for submitting comments.

• Mail: Jeffrey M. Zirger, Information Collection Review Office, Centers for Disease Control and Prevention, 1600 Clifton Road NE, MS H21-8, Atlanta, Georgia 30329.

Instructions: All submissions received must include the agency name and Docket Number. CDC will post, without change, all relevant comments to www.regulations.gov.

Please note: Submit all comments through the Federal eRulemaking portal (www.regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS H21-8, Atlanta, Georgia 30329; Telephone: 404-639-7118; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

Capacity Building Assistance Program: Data Management, Monitoring, and Evaluation (OMB Control No. 0920-1322, Exp. 02/29/2024)—Extension—National Center for HIV, Viral Hepatitis, STD, and TB Prevention (NCHHSTP), Centers for Disease Control and Prevention (CDC).

Background and Brief Description

The Centers for Disease Control and Prevention (CDC) partners with the national HIV prevention workforce to: (1) ensure that persons with HIV (PWH) are aware of their infection and successfully linked to medical care and treatment to achieve viral suppression; and (2) expand access to pre-exposure prophylaxis (PrEP), condoms, and other proven strategies for communities over-represented in the HIV epidemic. CDC funds state and local health departments and community-based organizations (CBOs) to optimally plan, integrate, implement, and sustain comprehensive HIV prevention programs and services for communities in the HIV epidemic, including blacks/African Americans; Hispanics/Latinos; all races/ethnicities of gay, bisexual, and other men who have sex with men (collectively referred to as MSM); people who inject drugs (PWID); and transgender persons.

Through the CDC cooperative agreement program entitled CDC-RFA-PS19-1904: Capacity Building Assistance (CBA) for High Impact HIV Prevention Program Integration, the CDC Division of HIV Prevention (DHP) funds the CBA Provider Network (CPN) to deliver CBA to CDC funded health departments and CBOs. CBA provided by the CPN include trainings and technical assistance (TA) that enable the HIV prevention workforce to optimally plan, implement, integrate, and sustain high-impact prevention interventions and strategies to reduce HIV infections and HIV related morbidity, mortality, and health disparities across the United States and its territories. This information collection evaluates CDC-RFA-PS19-1904. Specifically, the CDC is requesting the Office of Management and Budget (OMB) to grant a three-year extension to collect data through the use of four web based instruments that will be administered to recipients of CBA services and their program managers: (1) Learning Group Registration; (2) Post-Training Evaluation (PTE); (3) Post-Technical Assistance Evaluation (PTAE); and (4) Training and Technical Assistance Follow-up Survey (TTAFS).

CBA training participants will complete the Learning Group Registration Form as part of the process for enrolling in a CBA training. The Learning Group Registration Form collects demographic information about training participants including: (1) business contact information (e.g., email and telephone number); (2) primary [employment] functional role; (3) employment setting; and (4) programmatic and population areas of focus.

After an online or in-person training event is completed, training participants are invited to complete the PTE. The PTE is designed to elicit information from training participants about their satisfaction with the training delivery method and course content. Similar to the PTE, the PTAE consists of questions designed to elicit information from TA participants about their satisfaction with aspects of TA such as the relevance of the materials provided or created, responsiveness of the TA provider, TA participants' changes in knowledge or skills as a result of the TA, and barriers and facilitators to implementation of interventions/public health strategies. The TTAFS collects organizational-level data every six months from the program managers within CDC-funded programs. Program managers provide information about the implementation status of the intervention/public health strategy for which their staff received training and/or TA. Program managers are also asked to describe how their organization applied the training and TA (e.g., planning or adapting an intervention/public health strategy).

The Learning Group Registration Form, PTE, and PTAE will be administered to CDC-funded program staff who participate in a training or TA event offered by a CBA provider funded under PS19-1904. The TTAFS will be administered to the program managers of state and local health department staff and CBO staff who participate in a CBA training or TA event. Respondents will provide information electronically through an online survey. The option to complete surveys via a telephone interview will be offered to respondents who do not complete the online survey within seven days. The number of respondents is calculated based on an average of the number of health professionals, including doctors, nurses, health educators, and disease intervention specialists, trained by CBA providers during the years 2016-2022. We estimate 3,800 health professionals will provide one response for the Learning Group Registration; 3,800 health professionals will provide a response for the PTE for each training episode; 3,650 health professionals will provide a response for the PTAE for each TA episode; and 189 program managers will provide two responses to the TTAFS in the web-based or telephone survey per year. The total annualized burden is 1,671 hours. There are no other costs to respondents other than their time.

Estimated Annualized Burden Hours
Type of respondent | Form name | Number of respondents | Number of responses per respondent | Average burden per response (in hr) | Total burden (in hr)
Healthcare Professionals | Learning Group Registration | 3,800 | 1 | 5/60 | 317
Healthcare Professionals | Post-Training Evaluation | 3,800 | 2 | 5/60 | 633
Healthcare Professionals | Post-Technical Assistance Evaluation | 3,650 | 2 | 5/60 | 608
Program Managers | Training and TA Follow-up Survey | 139 | 2 | 18/60 | 83
Program Managers | Training and TA Telephone Script | 50 | 2 | 18/60 | 30
Total |  |  |  |  | 1,671

Jeffrey M. Zirger,
Lead, Information Collection Review Office, Office of Public Health Ethics and Regulations, Office of Science, Centers for Disease Control and Prevention.

[FR Doc. 2024-02175 Filed 2-2-24; 8:45 am]

BILLING CODE 4163-18-P